DEPARTMENT OF AGRICULTURE

Food Safety and Inspection Service

[Docket No. FSIS-2019-0030]

National Advisory Committee on Microbiological Criteria for Foods; Renewal

AGENCY: Food Safety and Inspection Service, USDA.

ACTION: Notice of intent to renew committee charter.

SUMMARY: In accordance with the Federal Advisory Committee Act, this notice is announcing the intention of the USDA and the U.S. Department of Health and Human Services (HHS) to renew the charter for the National Advisory Committee on Microbiological Criteria for Foods (NACMCF). The purpose of NACMCF is to provide impartial, scientific advice, and peer reviews to Federal food safety agencies for use in the development of an integrated national food safety systems approach that assures the safety of domestic, imported, and exported foods.

FOR FURTHER INFORMATION CONTACT: Karen Thomas, Advisory Committee Specialist, U.S. Department of Agriculture (USDA), Food Safety and Inspection Service (FSIS), Room 9-177B Patriots Plaza III, 1400 Independence Avenue SW, Washington, DC 20250-3700. Telephone number: (202) 690-6620.

SUPPLEMENTARY INFORMATION:

Background

The NACMCF was established in 1988, in response to a recommendation of the National Academy of Sciences for an interagency approach to microbiological criteria for foods, and in response to a recommendation of the U.S. House of Representatives Committee on Appropriations, as expressed in the Rural Development, Agriculture, and Related Agencies Appropriation Bill for fiscal year 1988. The NACMCF provides scientific advice and recommendations to the USDA and HHS on public health issues relative to the safety and wholesomeness of the U.S. food supply, including development of microbiological criteria and review and evaluation of epidemiological and risk assessment data and methodologies for assessing microbiological hazards in foods.

The USDA, in cooperation with HHS, is announcing its intent to renew the NACMCF's charter. The charter is available on the FSIS web page at https://www.fsis.usda.gov/wps/portal/fsis/topics/data-collection-and-reports/nacmcf/committee-charter. The renewal of NACMCF's charter is necessary and in the public interest because of the need for external expert advice on the range of scientific and technical issues that must be addressed by the USDA and HHS to ensure the safety of domestic, imported, and exported foods.

Members of NACMCF will be appointed by the Secretary of Agriculture after consultation with an Executive Committee that represents five participating Agencies in NACMCF: The Food Safety and Inspection Service (FSIS), the U.S. Food and Drug Administration (FDA), Centers for Disease Control and Prevention (CDC), the National Marine Fisheries Service (NMFS), and the Department of Defense's Defense Logistics Agency for advice on membership appointments. Because NACMCF reviews and evaluates complex issues, NACMCF is expected to meet one or more times per year.

Congressional Review Act

Pursuant to the Congressional Review Act at 5 U.S.C. 801 et seq., the Office of Information and Regulatory Affairs has determined that this notice is not a “major rule,” as defined by 5 U.S.C. 804(2).

Additional Public Notification

FSIS will announce this notice online through the FSIS web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to constituents and stakeholders. The Constituent Update is available on the FSIS web page. Through the web page, FSIS is able to provide information to a much broader, more diverse audience. In addition, FSIS offers an email subscription service that provides automatic and customized access to selected food safety news and information. This service is available at http://www.fsis.usda.gov/subscribe. Options range from recalls to export information to regulations, directives, and notices. Customers can add or delete subscriptions themselves and have the option to password protect their accounts.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination, any person in the United States under any program or activity conducted by the USDA.

How To File a Complaint of Discrimination

To file a complaint of discrimination, complete the USDA Program Discrimination Complaint Form, which may be accessed online at: http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Done at Washington, DC on:
Dated: January 8, 2020.
Cikena Reid,
USDA Committee Management Officer.

[FR Doc. 2020-00337 Filed 1-13-20; 8:45 am]

BILLING CODE 3410-DM-P